DEPARTMENT OF TRANSPORTATION

National Highway Traffic Safety Administration

Reports, Forms and Record Keeping Requirements; Agency Information Collection Activity Under OMB Review

AGENCY: National Highway Traffic Safety Administration, Department of Transportation.

ACTION: Notice.

SUMMARY: In compliance with the Paperwork Reduction Act of 1995 (44 U.S.C. 3501 et seq.), this notice announces that the Information Collection Request (ICR) abstracted below will be forwarded to the Office of Management and Budget (OMB) for review and comment. The ICR describes the nature of the information collections and their expected burden. The Federal Register Notice with a 60-day comment period was published on Tuesday, June 25, 2013 (FR Vol 78 No. 122, Page 38096.)

DATES: Comments must be submitted on or before March 7, 2014.

ADDRESSES: Send comments, within 30 days, to the Office of Information and Regulatory Affairs, Office of Management and Budget, 725-17th Street, NW., Washington, DC 20503, Attention NHTSA Desk Officer.

FOR FURTHER INFORMATION CONTACT: Marietta Bowen, State Data Reporting Systems Division (NVS-412), Room W53-306, 1200 New Jersey Avenue SE., Washington DC 20590. Mrs. Bowen can also be reached via email at marietta.bowen@dot.gov or via phone at 202-366-4257.

SUPPLEMENTARY INFORMATION:

National Highway Traffic Safety Administration

Title: Fatality Analysis Reporting System (FARS).

OMB Number: 2127-0006.

Type of Request: Continuation.

Abstract: Under both the Highway Safety Act of 1966 and the National Traffic and Motor Vehicle Safety Act of 1966, as amended, the National Highway Traffic Safety Administration (NHTSA) has the responsibility to collect accident data that support the establishment and enforcement of motor vehicle regulations and highway safety programs. These regulations and programs are developed to reduce the severity of injury and the property damage associated with motor vehicle accidents. The Fatality Analysis Reporting System (FARS) is a major system that acquires national fatality information directly from existing State files and documents. The total user population includes Federal and State agencies and the private sector.

Affected Public: State, Local or Tribal Government.

Estimated Annual Burden: 98,655 hours.

Number of Respondents: 52.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on January 31, 2014.
Terry T. Shelton,
Associate Administrator for National Center for Statistics and Analysis.

[FR Doc. 2014-02391 Filed 2-4-14; 8:45 am]

BILLING CODE 4910-59-P